DEPARTMENT OF HEALTH AND HUMAN SERVICES

Health Care Financing Administration

[HCFA-1146-N]

Medicare Program; September 21, 2000, Meeting of the Advisory Panel on Medicare Education

AGENCY: Health Care Financing Administration (HCFA), HHS.

ACTION: Notice of meeting.

SUMMARY: In accordance with section 10(a) of the Federal Advisory Committee Act, this notice announces a meeting of the Advisory Panel on Medicare Education (the Panel) on September 21, 2000. This Panel advises and makes recommendations to the Secretary of the Department of Health and Human Services and the Administrator of the Health Care Financing Administration (HCFA) on opportunities for HCFA to optimize the effectiveness of the National Medicare Education Program and other HCFA programs that help Medicare beneficiaries understand Medicare and the range of Medicare options available with the passage of the Medicare+Choice Program. The Panel meeting is open to the public.

DATES: The meeting is scheduled for September 21, 2000 from 8:30 a.m. pst to 5:30 p.m. pst.

ADDRESSES: The meeting will be held at the Waterfront Plaza Hotel, 10 Washington Street, Jack London Square, Oakland, California 94607, Telephone: (510) 836-3800 or (800) 729-3638.

FOR FURTHER INFORMATION CONTACT: Susana Perry, Executive Director, CBS, Partnership Development Group, Health Care Financing Administration, 7500 Security Boulevard S1-08-07, Baltimore, MD 21244-1850, (410) 786-1076. Please refer to the HCFA Advisory Committees Information Line (1-877-449-5659 toll free) or (410-786-9379 local) or the Internet (http://www.hcfa.gov/events/apme/homepage.htm) for additional information and updates on committee activities or by contacting the Executive Director at (E-mail: APME@hcfa.gov). Press inquiries are handled through the HCFA Press Office at (202) 690-6145.

SUPPLEMENTARY INFORMATION: The Federal Advisory Committee Act (5 U.S.C. App. 2, section 9(a)), Public Law 92-463, grants the Secretary of Health and Human Services (the Secretary) the authority to establish an advisory committee if the Secretary finds the committee in the public interest. The Secretary signed the charter establishing this committee on January 21, 1999 (64 FR 7899, February 17, 1999). The Advisory Panel on Medicare Education (the Panel) advises us on opportunities to enhance the effectiveness of consumer education materials serving the Medicare program.

The goals of the Panel are as follows:

• Develop and implement a national Medicare education program that describes the options for selecting a health plan under Medicare.

• Enhance the Federal government's effectiveness in informing the Medicare consumer, including the appropriate use of public-private partnerships.

• Expand outreach to vulnerable and underserved communities, including racial and ethnic minorities; in the context of a national Medicare education program.

• Assemble an information base of best practices for helping consumers evaluate health plan options and building a community infrastructure for information, counseling, and assistance.

The current members are: Diane Archer, J.D., President, Medicare Rights Center; Bruce Bradley, M.B.A., Director, Managed Care Plans, General Motors Corporation; Joyce Dubow, M.U.P., Senior Policy Advisor, Public Policy Institute, AARP; Elmer Huerta, M.D., M.P.H., Director, Cancer Risk and Assessment Center, Washington Hospital Center; Bonita Kallestad, J.D., M.S., Western Minnesota Legal Services, Mid Minnesota Legal Assistance; Steven Larsen, J.D., M.A., Maryland Insurance Commissioner, Maryland Insurance Administration; Brian Lindberg, M.M.H.S., Executive Director, Consumer Coalition for Quality Health Care; Heidi Margulis, B.A., Vice President, Government Affairs, Humana, Inc.; Patricia Neuman, Sc.D., Director, Medicare Policy Project, Henry J. Kaiser Family Foundation; Elena Rios, M.D., M.S.P.H, President, National Hispanic Medical Association; Samuel Simmons, B.A., President and CEO, The National Caucus and Center on Black Aged, Inc.; Nina Weinberg, M.A., President, National Health Council; and Edward Zesk, B.A., Executive Director, Aging 2000.

The agenda for the September 21, 2000, meeting will include the following:

• A recap of the last meeting.

• A presentation on communicating effectively with all people. (Issues of cultural competency and limited English proficiency.)

• A presentation on HCFA's role in and approach to providing information to Medicare consumers with limited English proficiency.

• A listening session, where Medicare consumers, caregivers to people with limited English proficiency, and information intermediaries discuss with the APME Panel approaches to effectively communicating Medicare information to people with limited English proficiency.

• A period for public comment.

• A discussion regarding suggestions for future activities to provide information to Medicare consumers with limited English proficiency.

Individuals or organizations that wish to make 5-minute oral presentations on the agenda issues should contact the Executive Director, by 12 noon, September 15, 2000, to be scheduled. The number of oral presentations may be limited by the time available. A written copy of the oral remarks should be submitted to the Executive Director, no later than 12 noon, September 15, 2000. Anyone who is not scheduled to speak may submit written comments to the Executive Director, by 12 noon, September 15, 2000.

The meeting is open to the public, but attendance is limited to the space available. Individuals requiring sign language interpretation for the hearing impaired or other special accommodations should contact the Executive Director at least 15 days before the meeting.

(5 U.S.C. App.2, section 10(a)(1) and (a)(2))

(Catalog of Federal Domestic Assistance Program No. 93.773, Medicare—Hospital Insurance; and Program No. 93.774, Medicare—Supplementary Medical Insurance Program)

Dated: August 23, 2000.
Nancy-Ann Min DeParle,
Administrator, Health Care Financing Administration.

[FR Doc. 00-22432 Filed 8-31-00; 8:45 am]

BILLING CODE 4120-01-P